DEPARTMENT OF HEALTH AND HUMAN SERVICES

National Institutes of Health

National Institute of General Medical Sciences Amended Notice of Meeting

Notice is hereby given of a change in the meeting of the National Institute of General Medical Sciences Special Emphasis Panel, August 11, 2011, 1 p.m. to August 11, 2011, 4 p.m., National Institutes of Health, Natcher Building, 45 Center Drive, Room 3AN12, Bethesda, MD 20892 which was published in the Federal Register on July 26, 2011, 76 FR 44598.

The meeting was rescheduled for August 12, 2011, from 1 p.m. to 4 p.m., National Institutes of Health, Natcher Building, 45 Center Drive, Room 3AN12, Bethesda, MD 20892. The meeting is closed to the public.

Dated: August 4, 2011.
Jennifer S. Spaeth,
Director, Office of Federal Advisory Committee Policy.

[FR Doc. 2011-20323 Filed 8-9-11; 8:45 am]

BILLING CODE 4140-01-P